DEPARTMENT OF ENERGY

Federal Energy Regulatory Commission

[Docket No. EL05-85-000]

Adrian Energy Associates, LLC, Cadillac Renewable Energy, LLC, Genesee Power Station, LP, Grayling Generating Station, LP, Hillman Power Company, LLC, T.E.S. Filer City Station, LP, Viking Energy of Lincoln, Inc., Viking Energy of McBain, Inc., Complainants, Michigan Public Service Commission, Commissioner J. Peter Lark, Commissioner Robert B. Nelson, Commissioner Laura Chapelle, Respondents; Notice of Complaint

March 31, 2005.

Take notice that on March 30, 2005, Adrian Energy Associates, LLC, Cadillac Renewable Energy, LLC, Genesee Power Station, LP, Grayling Generating Station, LP, Hillman Power Company, LLC, T.E.S. Filer City Station, LP, Viking Energy of Lincoln, Inc. and Viking Energy of McBain, Inc. (collectively, Michigan QFs), filed a formal complaint and petition against the Michigan Public Service Commission (MPSC), and Commissioner J. Peter Lark, Commissioner Robert B. Nelson, and Commissioner Laura Chapelle, alleging that:

1. The MPSC, in an opinion and order issued February 28, 2005, failed to Implement and enforce the Public Utility Regulatory Policies Act of 1978 (PURPA), including 16 U.S.C. 824a-3(f) et seq. and the rules of the Federal Energy Regulatory Commission, including 18 CFR 292.401 et seq.;

2. The MPSC's February 28, 2005, opinion and order contravenes the Federal Power Act, 16 U.S.C. 791a et seq., 16 U.S.C. 824(b), the PURPA And the FERC rules; and

3. The MPSC's February 28, 2005, opinion and order improperly and unlawfully alters pre-existing Power Purchase Agreements, subjecting the Qualifying Facilities (QFs) to utility-type regulation in violation of 16 U.S.C. 824a-3(e)(1) and 18 CFR 292.602, and unlawfully discriminating against the QFs in violation of 16 U.S.C. 824e-3(b)(2) and 18 CFR 292.304.

The Michigan QFs certify that copies of the complaint were served on the contacts for the Michigan Public Service Commission, Commissioner J. Peter Lark, Commissioner Robert B. Nelson, and Commissioner Laura Chapelle as listed on the Commission's List of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protest must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: April 20, 2005.

Linda Mitry,
Deputy Secretary.

[FR Doc. E5-1604 Filed 4-6-05; 8:45 am]

BILLING CODE 6717-01-P